DEPARTMENT OF HEALTH AND HUMAN SERVICES

National Institutes of Health

National Center for Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Special Emphasis Panel Clinical Research.

Date: November 12-13, 2003.

Time: November 12, 2003, 7:45 a.m. to Adjournment.

Agenda: To review and evaluate grant applications.

Place: University Place, 850 West Michigan Street, Indianapolis, IN 46202.

Contact Person: Marc Rigas, PhD., Scientific Review Administrator, National Center For Research Resources, or, National Institutes of Health, 6701 Democracy Blvd., 1 Democracy Plaza, rm 1080, MSC 4874, Bethesda, MD 20817-4874, 301-435-0806, rigasm@mail.nih.gov.

This notice is being published less than 15 days prior to the meeting due to the timing limitations imposed by the review and funding cycle.

Name of Committee: National Center for Research Resources Special Emphasis Panel Clinical Research.

Date: December 3-4, 2003.

Time: December 3, 2003, 7:45 a.m. to Adjournment.

Agenda: To review and evaluate grant applications.

Place: Radisson Plaza Lord, Baltimore 20 W. Baltimore Street, Baltimore, MD 02115.

Contact Person: Mohan Viswanathan, PhD., Scientific Review Administrator, Office of Review, National Institutes of Health, 6701 Democracy Boulevard, 1 Democracy Plaza room 1084, Bethesda, MD 20892-4874, 301-435-0829, viswanathanm@ncrr.nih.gov.

Name of Committee: National Center for Research Resources Special Emphasis Panel Comparative Medicine.

Date: January 27-29, 2004.

Time: January 27, 2004, 8 a.m. to Adjournment.

Agenda: To review and evaluate grant applications.

Place: Hyatt Regency, 123 Lesoya Street, San Antonio, TX 78205.

Contact Person: Carol Lambert, PhD., Scientific Review Administrator, Office of Review, National Center for Research Resources, National Institute of Health, 6701 Democracy Boulevard, 1 Democracy Plaza, room 1076, Bethesda, MD 20892-4874, (301) 435-0814, lambert@mail.nih.gov.

(Catalogue of Federal Domestic Assistance Program Nos. 93.306, Comparative Medicine; 93.333, Clinical Research; 93.371, Biomedical Technology; 93.389, Research Infrastructure, 93.306, 93.333, National Institutes of Health, HHS)
Dated: October 31, 2003.
LaVerne Y. Stringfield,
Director, Office of Federal Advisory Committee Policy.

[FR Doc. 03-28035 Filed 11-6-03; 8:45 am]

BILLING CODE 4140-01-M